DEPARTMENT OF THE INTERIOR

Bureau of Land Management

[LLNMA01000 L1430000.ER000 241E.00; NMNM 117833]

Noncompetitive Sale of Public Lands in Sandoval County, NM

AGENCY: Bureau of Land Management (BLM), Interior.

ACTION: Notice of realty action.

SUMMARY: The Bureau of Land Management (BLM) has determined that land located in Sandoval County, New Mexico, is suitable for direct sale to Victor and Consuelo Velarde under authority of Section 203 of the Federal Land Policy and Management Act of 1976 (90 Stat. 2750, 43 U.S.C. 1713), at not less than the estimated fair market value of $3,500. The land will not be offered for sale until at least 60 days after the date of this notice. This parcel is located in a disposal area as cited in the Rio Puerco Resource Management Plan, October 1992 Update.

DATES: Interested parties may submit comments concerning the proposed sale no later than 45 days after publication of this Notice in the Federal Register. Only written comments will be accepted.

ADDRESSES: Written comments concerning this Notice should be addressed to: District Manager, BLM Rio Puerco Field Office, 435 Montaño Rd., NE., Albuquerque, New Mexico 87107.

FOR FURTHER INFORMATION CONTACT: Arlene Salazar, Realty Specialist, at the address above or by telephone at (505) 761-8772.

SUPPLEMENTARY INFORMATION: The parcel of public land is described as follows:

New Mexico Principal Meridian

T. 21 N., R. 1 W.,

Sec. 8, lot 4.

The area described contains approximately .46 acres, in Sandoval County.

The land described is hereby segregated from appropriation under the public land laws, including the mining laws, pending disposition of this action or 270 days from the date of publication of this notice, whichever occurs first. Conveying title to the affected public land is consistent with current BLM land use planning.

The patent, when issued, would be subject to the following terms, conditions, and reservations:

1. All minerals, including coal, will be reserved to the United States with the right to prospect for, mine, and remove the minerals.

2. A right-of-way for ditches and canals constructed by the authority of the United States, Act of August 30, 1890 (43 U.S.C. 945).

3. All valid existing rights documented on the official public land records at the time of patent issuance.

4. All existing rights-of-way reservations that the authorized officer determines appropriate to ensure public access and proper management of Federal land and interests therein.

Additional detailed information concerning this Notice of Realty Action, including environmental documents, is available for review at the address above.

After 45 days from publication of this Notice in the Federal Register, the lands described above will be segregated from all forms of appropriation under the public land laws, including the mining and mineral leasing laws.

On or before 45 days after publication of this Notice in the Federal Register, comments may be submitted regarding the proposed conveyance of the land to the Field Manager, BLM Rio Puerco Field Office, at the address above.

Only written comments will be accepted. Before including your address, phone number, e-mail address, or other personal identifying information in your comments, you should be aware that your entire comments—including your personal identifying information—may be made publicly available at any time. While you can ask us in your comments to withhold your personal identifying information from public review, we cannot guarantee that we will be able to do so.

Additional Comments: The State Director will review any adverse comments. In the absence of adverse comments, the segregation of the lands will become effective after 45 days of this Notice in the Federal Register.

Authority: 43 CFR part 2710.

David R. Sitzler,
Acting Field Manager, Rio Puerco Field Office.

[FR Doc. E9-3537 Filed 2-18-09; 8:45 am]

BILLING CODE 4310-AG-P